DEPARTMENT OF HOMELAND SECURITY

Bureau of Immigration and Customs Enforcement

Agency Information Collection Activities: Comment Request

ACTION: Request OMB Emergency Approval; fee remittance form for certain F-1; J-1 and M-1 nonimmigrants; form I-901.

The Department of Homeland Security (DHS) and the Bureau of Customs and Immigration Enforcement (ICE) has submitted an emergency information collection request (ICR) utilizing emergency review procedures, to the Office of Management and Budget (OMB) for review and clearance in accordance with sections 1320.13(a)(1)(ii) and (a)(2)(iii) of the Paperwork Reduction Act of 1995. The ICE has determined that it cannot reasonably comply with the normal clearance procedures under this part because normal clearance procedures are reasonably likely to prevent or disrupt the collection of information. ICE is requesting emergency review from OMB of this information collection to ensure compliance section 641 of the Illegal Immigration Reform and Immigrant Responsibility Act of 1996 (IIRIRA), and under 31 U.S.C. 9701 and section 286(m) of the Act. Therefor, OMB approval has been requested by October 24, 2003. If granted, the emergency approval is only valid for 180 days. ALL comments and/or questions pertaining to this pending request for emergency approval MUST be directed to OMB, Office of Information and Regulatory Affairs, Attention: Ms. Karen Lee, Department of Justice Desk Officer, 725 17th Street, NW., Suite 10235, Washington, DC 20503. Comments regarding the emergency submission of this information collection may also be submitted via facsimile to Ms. Lee at 202-395-5806.

During the first 60 days of this same period, a regular review of this information collection is also being undertaken. During the regular review period, the ICE requests written comments and suggestions from the public and affected agencies concerning this information collection. Comments are encouraged and will be accepted until [Insert date of the 60th day from the date that this notice is published in the Federal Register]. During the 60-day regular review, ALL comments and suggestions, or questions regarding additional information, to include obtaining a copy of the information collection instrument with instructions, should be directed to Mr. Richard A. Sloan, 202-514-3291, Director, Regulations and Forms Services Division, Bureau of Customs and Immigration Enforcement, U.S. Department of Homeland Security, Room 4304, 425 I Street, NW., Washington, DC 20536. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Fee Remittance Form for Certain F-1, J-1, and M-1 Nonimmigrants.

(3) Agency form number, if any, and the applicable component of the Department of Justice sponsoring the collection: Form I-901. Bureau of Immigration and Customs Enforcement, Department of Homeland Security.

(4) Affected public who will be asked or required to respond, as well as a brief abstract: Primary: Individuals or households. This form is used by nonimmigrant students and exchange visitors to submit the fee authorized by Public Law 104-208, subtitle D, section 641. Additionally, this information is required to send receipt to the student or exchange visitor upon payment and to positively identify that a particular student or exchange visitor has paid the fee.

(5) An estimate of the total number of respondents and the amount of time estimated for an average respondent to respond: 900,000 responses at 19 minutes (.32 hours) per response.

(6) An estimate of the total public burden (in hours) associated with the collection: 288,000 annual burden hours.

If additional information is required contact: Ms. Theresa O'Malley, Chief Information Officer, U.S. Department of Homeland Security, Regional Office Building 3, 7th and D Streets, SW., Suite 4636-26, Washington, DC 20202.

Dated: October 9, 2003.
Stephen R. Tarragon.
Acting Department Clearance Officer, Department of Homeland Security, Bureau of Immigration and Customs Enforcement.

[FR Doc. 03-26220 Filed 10-16-03; 8:45 am]

BILLING CODE 4410-10-M